DEPARTMENT OF THE INTERIOR

National Park Service

[NPS-WASO-NAGPRA-19770; PCU00RP14.R50000-PPWOCRDN0]

Notice of Inventory Completion: U.S. Department of the Interior, Bureau of Indian Affairs, Washington, DC

AGENCY: National Park Service, Interior.

ACTION: Notice.

SUMMARY: The U.S. Department of the Interior, Bureau of Indian Affairs has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Indian Affairs at the address in this notice by January 11, 2016.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of the Peabody Museum of Archaeology and Ethnology, Harvard University (Peabody Museum), Cambridge, MA. The human remains and associated funerary objects were removed from Burns Township, Shiawassee County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of the Interior, Bureau of Indian Affairs professional staff in consultation with representatives of the Saginaw Chippewa Indian Tribe of Michigan.

History and Description of the Remains

In 1915, human remains representing, at minimum, two individuals were removed from a site three miles northwest of Byron, Burns Township, Shiawassee County, MI. The human remains were removed by Arthur W. Carpenter as part of a Peabody Museum expedition to investigate the historic Ojibwe Reservation of Keetchewaundaugnink. Mr. Carpenter donated these human remains—one of an adult male and the other of a child of indeterminate sex—to the Peabody Museum in 1915. No known individuals were identified. The three associated funerary objects are a porcupine skull and mandible, a faunal remain, and a wood fragment.

Peabody Museum records describe the site three miles northwest of Byron, MI, as “Mound 1” and “Ojibwa Historic Burial Site, Keetchewaundaugnink Reservation.” The reservation encompasses a village site of the same name that was established circa 1810. The reservation itself was established by the Treaty of Saginaw in September 1819, and ceded in 1837 after a small pox epidemic. The presence of mounds and graves near the Keetchewaundaugnink village site are known from historic accounts. An early written history of Shiawassee County indicates that a large cemetery was known to be associated with the Keetchewaundaugnink village. Consultation with representatives of the Saginaw Chippewa Indian Tribe of Michigan indicates that the Keetchewaundaugnink Reservation was an early reservation of the Saginaw Chippewa in the historic period.

Determinations Made by the U.S. Department of the Interior, Bureau of Indian Affairs

Officials of the U.S. Department of the Interior, Bureau of Indian Affairs have determined that:

• Pursuant to 25 U.S.C. 3001(9), the human remains described in this notice represent the physical remains of two individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Saginaw Chippewa Indian Tribe of Michigan.

Additional Requestors and Disposition

Lineal descendants or representatives of any Indian tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by January 11, 2016. After that date, if no additional requestors have come forward, transfer of control of the human remains and associated funerary objects to the Saginaw Chippewa Indian Tribe of Michigan may proceed.

The U.S. Department of the Interior, Bureau of Indian Affairs is responsible for notifying the Saginaw Chippewa Indian Tribe of Michigan that this notice has been published.

Dated: November 12, 2015.
Melanie O'Brien,
Manager, National NAGPRA Program.

[FR Doc. 2015-31316 Filed 12-10-15; 8:45 am]

BILLING CODE 4312-50-P